DEPARTMENT OF HEALTH AND HUMAN SERVICES

National Institutes of Health

Office of the Director, National Institutes of Health; Amended Notice of Meeting

Notice is hereby given of a change in the meeting of the Advisory Committee to the Director, National Institutes of Health, June 05, 2014, 09:00 a.m. to June 06, 2014 at 12:00 p.m., National Institutes of Health, which was published in the Federal Register on May 16, 2014, 79FR28529.

The location of the meeting has been changed from Building 1, Room 126 to Building 31, 6th Floor, Conference Room 6. Any interested person may file written comments with the committee by forwarding the statement to Gretchen Wood, Staff Assistant, Office of the Director, One Center Drive, Building 1, Room 126, Bethesda, Maryland 20892-0148, woodgs@od.nih.gov by June 5th at 8:00 a.m. The statement should include the name, address, telephone number and, when applicable, the business or professional affiliation of the interested person. The meeting is partially closed to the public.

Dated: May 19, 2014.
Anna Snouffer,
Deputy Director, Office of Federal Advisory Committee Policy.

[FR Doc. 2014-12079 Filed 5-23-14; 8:45 am]

BILLING CODE 4140-01-P